DEPARTMENT OF HEALTH AND HUMAN SERVICES

Substance Abuse and Mental Health Services Administration

Center for Substance Abuse Prevention; Notice of Meeting

Pursuant to Public Law 92-463, notice is hereby given of a Telephone Conference Call meeting of the Center for Substance Abuse Prevention (CSAP) National Advisory Council in July 2000.

The meeting will include the review, discussion and evaluation of individual grant applications and detailed discussion of information about the Center's procurement plans. Therefore the meeting will be closed to the public as determined by the Administrator, SAMHSA, in accordance with Title 5 U.S.C. 552b(c)(3)(4) and (6) and 5 U.S.C. App. 2, Section 10(d).

Substantive program information, a summary of the meeting and a roster of Council members may be obtained from the contact listed below.

Committee Name: Center for Substance Abuse Prevention National Advisory Council.

Meeting Date: July 31, 2000 (Closed).

Time: 1 p.m. to 2:30 p.m.

Place: Rockwall II Building, 5515 Security Lane, Conference Room II, Rockville, Maryland 20852.

Contact: Yuth Nimit, Ph.D., 5515 Security Lane, Rockwall II Building, Suite 901, Rockville, Maryland 20852, Telephone: (301) 443-8455.

Dated: July 10, 2000.
Toian Vaughn,
Committee Management Officer, Substance Abuse and Mental Health Services Administration.

[FR Doc. 00-18412 Filed 7-19-00; 8:45 am]

BILLING CODE 4162-20-P